DEPARTMENT OF COMMERCE

International Trade Administration

[C-122-815]

Alloy Magnesium From Canada; Extension of Time Limit for the Preliminary Results of the Countervailing Duty New Shipper Review and Pure Magnesium From Canada; Rescission of Countervailing Duty New Shipper Review

AGENCY: Import Administration, International Trade Administration, Department of Commerce.

ACTION: Notice of extension of time for preliminary results of new shipper review and rescission of new shipper review.

SUMMARY: The Department of Commerce is extending the time limit for the preliminary results of the new shipper review of the countervailing duty order on alloy magnesium from Canada. This extension of time limit is made pursuant to section 751(a)(2)(B)(iv) of the Tariff Act of 1930, as amended by the Uruguay Round Agreements Act.

We are also rescinding the new shipper review of the countervailing duty order on pure magnesium from Canada.

EFFECTIVE DATE: September 13, 2002.

FOR FURTHER INFORMATION CONTACT: Sally Hastings, Import Administration, International Trade Administration, U.S. Department of Commerce, Room 3099, 14th Street and Constitution Avenue, NW., Washington, DC 20230; telephone (202) 482-3464.

Applicable Statute and Regulations

Unless otherwise indicated, all citations to the statute are references to the provisions effective January 1, 1995, the effective date of the amendments made to the Tariff Act of 1930 (“the Act”) by the Uruguay Round Agreements Act. In addition, unless otherwise indicated, all citations to the Department of Commerce's (“Department”) regulations are to 19 CFR part 351 (2001).

Background

On February 28, 2002, the Department received a request from Magnola Metallurgy, Inc. (“Magnola”) to initiate a new shipper review of Magnola's sales of alloy magnesium from Canada. The Department erroneously initiated new shipper reviews of the countervailing duty orders on both pure and alloy magnesium from Canada on March 27, 2002. See Notice of Initiation of New Shipper Countervailing Duty Review: Pure and Alloy Magnesium from Canada, 67 FR 15794 (April 3, 2002). Because no review was requested for the former, we are rescinding the new shipper countervailing duty review on pure magnesium.

On August 9, 2002, U.S. Magnesium LLC (“U.S. Magnesium”), the successor to the Magnesium Corporation of America, the petitioner in the original investigation, requested that the Department include in this review an alleged labor subsidy not previously investigated. U.S. Magnesium filed additional comments on August 30, 2002. Magnola has objected to reconsideration of the petitioner's allegation in submissions dated August 19 and September 3, 2002.

Statutory Time Limits

Section 751(a)(2)(B)(iv) of the Act requires the Department to issue the preliminary determination in a new shipper review 180 days after the date the review was initiated and a final determination within 90 days after the date on which the preliminary results is issued. However, if the Department determines that the review is extraordinarily complicated, the Department can extend the 180-day period to 300 days and the 90-day period to 150 days.

Postponement

Because additional time is needed to review the new subsidy allegation, and if warranted, to investigate the subsidy, the Department has concluded that the case is extraordinarily complicated. Therefore, in accordance with section 751(a)(2)(B)(iv) of the Act and 19 CFR 351.214(i)(2), we are postponing the preliminary results of this new shipper review for 120 days, until no later than January 21, 2003.

Rescission of Countervailing Duty New Shipper Review on Pure Magnesium

Because Magnola's request for a new shipper review covered only the order on alloy magnesium, the Department is rescinding the new shipper review of the countervailing duty order on pure magnesium from Canada.

We are issuing and publishing this notice in accordance with sections 751(a)(2)(B) and 777(i)(1) of the Act.

Dated: September 9, 2002.
Richard W. Moreland,
Deputy Assistant Secretary for Import Administration.

[FR Doc. 02-23390 Filed 9-12-02; 8:45 am]

BILLING CODE 3510-DS-P